DEPARTMENT OF TRANSPORTATION

Maritime Administration

Voluntary Intermodal Sealift Agreement (VISA)/Joint Planning Advisory Group (JPAG)

AGENCY: Maritime Administration, DOT.

ACTION: Synopsis of March 28, 2006, meeting with VISA participants.

The VISA program requires that a notice of the time, place, and nature of each JPAG meeting be published in the Federal Register.The full text of the VISA program, including these requirements, is published in 70 FR 55947-55955, dated September 23, 2005.

On March 28, 2006, the Maritime Administration (MARAD) and the U.S. Transportation Command (USTRANSCOM) co-hosted a meeting of the VISA JPAG at USTRANSCOM, Scott Air Force Base, Illinois. Meeting attendance was by invitation only, due to the nature of the information discussed and the need for a government-issued security clearance. Of the 52 U.S.-flag carrier corporate participants enrolled in the VISA program 19 companies participated in the JPAG meeting. Two representatives for maritime labor also participated in the meeting. In addition, representatives from MARAD and the Department of Defense attended the meeting.

Brig Gen Paul Selva, USAF, TCJ3, USTRANSCOM, and James Caponiti, Associate Administrator for National Security, MARAD, welcomed the participants. Brig Gen Selva noted that he maintains a deep appreciation of the capabilities the maritime industry delivers to support DOD sealift logistics. Mr. Caponiti remarked that while some progress has been made in recent JPAG meetings regarding the findings of DOD's Mobility Capabilities Study (MCS), future JPAG meetings should provide a more focused operational perspective on how the maritime industry will be able to respond to the MCS assumptions.

The purpose of the JPAG meeting was to brief participants on USTRANSCOM's Turbo Distribution Exercise 2006 and to provide an overview of the Department of Defense's Operations Plan (OPLAN). There was also a discussion related to activation of JPAG participants' capacity and intermodal resources to support the OPLAN.

The following VISA companies participated in the March 28, 2006 JPAG meeting: American President Lines, Ltd.; American Roll-On Roll-Off Carrier, LLC; American Shipping Group; APL Marine Services, Ltd.; APL Maritime Ltd; Central Gulf Lines, Inc.; CP Ships USA, LLC; Crowley Liner Services, Inc.; Crowley Marine Services, Inc.; Farrell Lines Incorporated; Fidelio Limited Partnership; Liberty Global Logistics, LLC; Liberty Shipping Group Limited Partnership; Maersk Line, Limited; Matson Navigation Company, Inc.; Patriot Shipping, LLC; Patriot Titan, LLC; Sealift Inc.; and Waterman Steamship Corporation.

FOR FURTHER INFORMATION CONTACT: Mr. Taylor E. Jones II, Director, Office of Sealift Support, (202) 366-2323.

(Authority: 49 CFR 1.66).

By Order of the Maritime Administrator.
Dated: May 5, 2006.
Joel C. Richard,
Secretary.

[FR Doc. E6-7156 Filed 5-10-06; 8:45 am]

BILLING CODE 4910-81-P